DEPARTMENT OF COMMERCE

International Trade Administration

[A-489-807]

Certain Steel Concrete Reinforcing Bars from Turkey; Notice of Amended Final Results Pursuant to Court Decisions

AGENCY: Import Administration, International Trade Administration, Department of Commerce.

SUMMARY: In June and November 2009 and January 2010, the United States Court of International Trade (CIT) sustained three final remand redeterminations made by the Department of Commerce (the Department) in the 2003-2004 administrative review of certain steel concrete of reinforcing bars (rebar) from Turkey. See Habas Sinai ve Tibbi Gazlar Istihsal Endustrisi A.S. v. United States, Court No. 05-00613, Slip Op. 09-55 (June 15, 2009) (Habas I); Habas Sinai ve Tibbi Gazlar Istihsal Endustrisi A.S. v. United States, Court No. 05-00613, Slip Op. 09-133 (Nov. 23, 2009) (Habas II); and Nucor Corporation, Gerdau Ameristeel Corporation, and Commercial Metals Company v. United States and Icdas Celik Enerji Tersane ve Ulasim Sanayi A.S., Court No. 05-00616, Slip Op. 10-6 (Jan. 19, 2010) (ICDAS). Because all litigation for this administrative review has now concluded, the Department is issuing its amended final results in accordance with the CIT's decisions.

EFFECTIVE DATE: April 29, 2010.

FOR FURTHER INFORMATION CONTACT: Elizabeth Eastwood, AD/CVD Operations, Office 2, Import Administration - International Trade Administration, U.S. Department of Commerce, 14th Street and Constitution Avenue, NW, Washington, DC, 20230; telephone (202) 482-3874.

Background

In accordance with sections 751(a)(1) and 777(i)(1) of the Tariff Act of 1930, as amended (the Act), on November 8, 2005, the Department published its notice of final results in the antidumping duty administrative review of rebar from Turkey for the period of review (POR) of April 1, 2003, through March 31, 2004. See Certain Steel Concrete Reinforcing Bars From Turkey; Final Results, Rescission of Antidumping Duty Administrative Review in Part, and Determination To Revoke in Part, 70 FR 67665 (Nov. 8, 2005) (Final Results).

In the Final Results the Department followed its normal practice of using POR weighted-average costs in its margin calculation for all companies, instead of quarterly-average costs as requested by Habas and ICDAS. The Department also based the U.S. date of sale for Habas on the earlier of shipment date or invoice date and the U.S. date of sale for ICDAS on contract date.

Subsequent to the final results, Habas and ICDAS contested the Department's decision to use POR costs, Habas contested the Department's decision to use invoice date as its U.S. date of sale, and the domestic industry, among other arguments, challenged the Department's decision to use invoice date as ICDAS's date of sale.

On November 18, 2005, the Department requested a voluntary remand in order to reconsider the date-of-sale issue for ICDAS. On December 15, 2005, the CIT granted the Department's request to reconsider whether, based upon the record evidence, the Department reasonably applied its date-of-sale methodology to the facts at issue. See Nucor Corporation, Gerdau Ameristeel Corporation, and Commercial Metals Company v. United States, Court No. 05-00616 (Dec. 15, 2005). On January 31, 2006, the Department issued its final results of redetermination, in which it found that the invoice date was the appropriate date of sale for ICDAS's U.S. sales. See Nucor Corporation, Gerdau Ameristeel Corporation, and Commercial Metals Company v. United States; Final Results of Redetermination Pursuant to Court Remand (Jan. 31, 2006).

On November 15, 2007, the CIT remanded for reconsideration Habas' date of sale and quarterly cost issues. See Habas Sinai ve Tibbi Gazlar Istihsal Endustrisi A.S. v. United States, Court No. 05-00613, Slip Op. 07-167 (Nov. 15, 2007). On March 3, 2008, the Department issued its final results of redetermination pursuant to the CIT's November 15, 2007, remand order, finding that the contract date was the more appropriate date of sale and providing additional justification for relying on POR costs. See Habas Sinai ve Tibbi Gazlar Istihsal Endustrisi A.S. v. United States; Final Results of Redetermination Pursuant to Court Remand (Mar. 3, 2008).

On March 24, 2009, the CIT again remanded the ICDAS date of sale issue to the Department, requiring that the Department provide a more in-depth analysis as to the reason the use of invoice date was appropriate. The CIT also remanded two additional issues, at the Department's request, related to the calculation of ICDAS's cost of production (COP) and the universe of U.S. sales examined in the review. See Nucor Corporation, Gerdau Ameristeel Corporation, and Commercial Metals Company, v. United States, Court No. 05-00616, Slip Op. 09-20 (March 24, 2009).

On June 15, 2009, the CIT affirmed the Department's determination to use contract date as the date of sale for Habas' U.S. sales. See Habas I. However, the CIT also determined that the Department's analysis of Habas' COP (i.e., quarterly costs vs. annual weighted-average costs) in the Final Results was not supported by substantial evidence on the record, and the court remanded this issue to the Department once again for additional reconsideration. Id.

On September 8, 2009, and November 6, 2009, respectively, the Department issued its final results of redetermination pursuant to the CIT's June 15, 2009, and March 24, 2009, rulings. See Habas Sinai Tibbi Gazlar Istihsal Endustrisi A.S. v. United States, Final Results of Redetermination Pursuant to Court Remand (Sept. 8, 2009) and Nucor Corporation, Gerdau Ameristeel Corporation, and Commercial metals Company v. United Sates, Final Results of Redetermination Pursuant to Court Remand (Nov. 6, 2009). In both remand redeterminations, the Department reconsidered the appropriateness of using POR cost data, and consistent with the court's orders, recalculated the margin for both companies using quarterly costs. In addition, in its November 6, 2009, redetermination, the Department provided additional justification for its date of sale methodology for ICDAS, as well as for its methodology of defining the universe of reviewed transactions.

On November 23, 2009, and January 19, 2010, respectively, the CIT found that the Department complied with its remand orders and sustained the Department's remand redeterminations in all respects. See Habas II and ICDAS.

On December 4, 2009, and February 12, 2010, respectively, consistent with the decision of the United States Court of Appeals for the Federal District in Timken Co. v. United States, 893 F.2d 337 (Fed. Cir. 1990), the Department notified the public that the CIT's decisions were “not in harmony” with the Department's Final Results. See Certain Steel Concrete Reinforcing Bars from Turkey: Notice of Court Decision Not in Harmony with Final Results of Administrative Review, 74 FR 65515 (Dec. 10, 2009) and Certain Steel Concrete Reinforcing Bars from Turkey: Notice of Court Decision Not in Harmony with Final Results of Administrative Review, 75 FR 7562 (Feb. 22, 2010) (Collectively, Rebar Timken Notices). No party appealed either of the CIT's judgments. Because there are now final and conclusive decisions in the Court proceedings as explained in the Rebar Timken Notices, we are issuing amended final results to reflect the results of the remand determinations.

Amended Final Results of Review

We are amending the final results of the 2003-2004 administrative review of the antidumping duty order on rebar from Turkey to revise the weighted-average margin for Habas from 26.07 percent to 5.58 percent, and to revise the weighted-average margin for ICDAS from 0.16 percent to 0.70 percent.

Assessment

The Department shall determine, and U.S. Customs and Border Protection (CBP) shall assess, antidumping duties on all appropriate entries.

Pursuant to 19 CFR 351.106(c)(2), we will instruct CBP to liquidate without regard to antidumping duties any entries for which the assessment rate is de minimis (i.e., less than 0.50 percent). The Department will issue appraisement instructions directly to CBP.

This notice is issued and published in accordance with sections 751(a)(1) and 777(i)(1) of the Act.

Dated: April 23, 2010.
Ronald K. Lorentzen,
Deputy Assistant Secretary for Import Administration.

[FR Doc. 2010-10024 Filed 4-28-10; 8:45 am]

BILLING CODE 3510-DS-S